DEPARTMENT OF COMMERCE

International Trade Administration

[C-560-827]

Monosodium Glutamate From the Republic of Indonesia: Preliminary Negative Countervailing Duty Determination; and Preliminary Negative Determination of Critical Circumstances

AGENCY: Enforcement and Compliance, formerly Import Administration, International Trade Administration, Department of Commerce.

SUMMARY: The Department of Commerce (the Department) preliminarily determines that countervailable subsidies are not being provided to producers and exporters of monosodium glutamate (MSG) from the Republic of Indonesia (Indonesia). The Department also preliminarily determines that critical circumstances do not exist for imports of MSG from Indonesia. The period of investigation is January 1, 2012, through December 31, 2012. The final determination will be issued 75 days after the date of this preliminary determination.¹ Interested parties are invited to comment on this preliminary determination.

¹ Due to the closure of the Federal Government in Washington, DC on March 3, 2014, the Department reached this determination on the next business day (i.e., March 4, 2014). See Notice of Clarification: Application of “Next Business Day” Rule for Administrative Determination Deadlines Pursuant to the Tariff Act of 1930, As Amended, 70 FR 24533 (May 10, 2005).

DATES: Effective Date: March 11, 2014.

FOR FURTHER INFORMATION CONTACT: Nicholas Czajkowski or Milton Koch, Office VII, AD/CVD Operations, Enforcement and Compliance, International Trade Administration, U.S. Department of Commerce, 14th Street and Constitution Avenue NW., Washington, DC 20230; telephone: (202) 482-1395 and (202) 482-2584, respectively.

SUPPLEMENTARY INFORMATION:

Scope of the Investigation

The product covered by this investigation is MSG, whether or not blended or in solution with other products. Specifically, MSG that has been blended or is in solution with other product(s) is included in this scope when the resulting mix contains 15 percent or more of MSG by dry weight.²

² For a complete description of the scope of the investigation, see Appendix 1 to this notice.

Methodology

The Department is conducting this countervailing duty (CVD) investigation in accordance with section 701 of the Tariff Act of 1930, as amended, (the Act). For a full description of the methodology underlying our preliminary conclusions, see the Preliminary Decision Memorandum.³ The Preliminary Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Preliminary Decision Memorandum can be accessed directly on the Internet at http://enforcement.trade.gov/frn/index.html. The signed Preliminary Decision Memorandum and the electronic versions of the Preliminary Decision Memorandum are identical in content.

³ See Memorandum from Christian Marsh, Deputy Assistant Secretary for Antidumping and Countervailing Duty Operations, to Paul Piquado, Assistant Secretary for Enforcement and Compliance regarding “Decision Memorandum for the Preliminary Negative Countervailing Duty Determination in the Countervailing Duty Investigation of Monosodium Glutamate from Indonesia; and Preliminary Negative Determination of Critical Circumstances in the Countervailing Duty Investigation,” dated concurrently with this notice (Preliminary Decision Memorandum).

Critical Circumstances

In accordance with section 703(e)(1) of the Act, we preliminarily find that critical circumstances do not exist with respect to imports of MSG from Indonesia. A discussion of our determination can be found in the Preliminary Decision Memorandum.

Negative Preliminary Determination and Suspension of Liquidation

We have calculated a de minimis CVD rate for the sole producer/exporter of subject merchandise in this investigation. Consistent with section 703(b)(4)(A) of the Act, we have disregarded this rate and preliminarily determine that no countervailable subsidies are being provided to the production or exportation of the subject merchandise in Indonesia. Additionally, consistent with section 703(d)(1)(A) of the Act, the Department has not calculated an “all others” rate for all other producers or exporters because it has not made an affirmative preliminary determination.

We preliminarily determine the countervailable subsidy rates to be:

Company | Subsidy rate
PT. Cheil Jedang Indonesia | 0.069 percent (de minimis)

Because we have preliminarily determined that the CVD rates in this investigation are de minimis, we will not direct U.S. Customs and Border Protection to suspend liquidation of entries of subject merchandise.

Verification

As provided in section 782(i)(1) of the Act, we intend to verify the information submitted by the respondents prior to making our final determination.

Disclosure and Public Comment

The Department intends to disclose to interested parties the calculations performed in connection with this preliminary determination within five days of announcement of its public announcement.⁴ Interested parties may submit case and rebuttal briefs, as well as request a hearing.⁵ For a schedule of the deadlines for filing case briefs, rebuttal briefs, and hearing requests, see the Preliminary Decision Memorandum.

⁴ See 19 CFR 351.224(b).

⁵ See 19 CFR 351.309(c)-(d), 19 CFR 351.310(c).

International Trade Commission Notification

In accordance with section 703(f) of the Act, we will notify the International Trade Commission (ITC) of our determination. In addition, we are making available to the ITC all non-privileged and non-proprietary information relating to this investigation. We will allow the ITC access to all privileged and business proprietary information in our files, provided the ITC confirms that it will not disclose such information, either publicly or under an administrative protective order, without the written consent of the Assistant Secretary for Enforcement and Compliance.

In accordance with section 705(b)(2) of the Act, if our final determination is affirmative, the ITC will make its final determination within 45 days after the Department makes its final determination.

This determination is issued and published pursuant to sections 703(f) and 777(i) of the Act.

Dated: March 4, 2014.
Paul Piquado,
Assistant Secretary for Enforcement and Compliance.

Appendix 1

Scope of the Investigation

The scope of this investigation covers monosodium glutamate (MSG), whether or not blended or in solution with other products. Specifically, MSG that has been blended or is in solution with other product(s) is included in this scope when the resulting mix contains 15% or more of MSG by dry weight. Products with which MSG may be blended include, but are not limited to, salts, sugars, starches, maltodextrins, and various seasonings. Further, MSG is included in this investigation regardless of physical form (including, but not limited to, substrates, solutions, dry powders of any particle size, or unfinished forms such as MSG slurry), end-use application, or packaging.

MSG has a molecular formula of C5H8NO4Na, a Chemical Abstract Service (CAS) registry number of 6106-04-3, and a Unique Ingredient Identifier (UNII) number of W81N5U6R6U.

Merchandise covered by the scope of this investigation is currently classified in the Harmonized Tariff Schedule (HTS) of the United States at subheading 2922.42.10.00. Merchandise subject to this investigation may also enter under HTS subheadings 2922.42.50.00, 2103.90.72.00, 2103.90.74.00, 2103.90.78.00, 2103.90.80.00, and 2103.90.90.91. The tariff classifications, CAS registry number, and UNII number are provided for convenience and customs purposes; however, the written description of the scope is dispositive.

Appendix 2

List of Topics Discussed in the Preliminary Decision Memorandum

I. Summary

II. Background

A. Initiation and Case History

B. Period of Investigation

III. Scope Comments

IV. Scope of the Investigation

V. Respondent Selection

VI. Injury Test

VII. Subsidies Valuation

A. Allocation Period

B. Attribution of Subsidies

C. Denominators

D. Benchmarks and Discount Rates

VIII. Critical Circumstances

IX. Analysis of Programs

A. Program Preliminarily Determined to be Countervailable

B. Respondent Reported Not Using the Following Programs During the POI and the Record Indicates Nothing to Contradict These Claims

X. ITC Notification

XI. Disclosure and Public Comment

XII. Verification

XIII. Conclusion

[FR Doc. 2014-05243 Filed 3-10-14; 8:45 am]

BILLING CODE 3510-DS-P